DEPARTMENT OF THE INTERIOR

Fish and Wildlife Service

Privacy Act as Amended; Amendment of an Existing System of Records

AGENCY: U.S. Fish and Wildlife Service, Department of the Interior.

ACTION: Proposed amendment of an existing system of records notice.

SUMMARY: Pursuant to the provisions of the Privacy Act of 1974, as amended (5 U.S.C. 552a), the Department of the Interior issues this public notice of its intent to modify an existing Privacy Act system of records managed by the U.S. Fish and Wildlife Service (FWS). The changes are to the system of records called “Real Property Records—Interior, FWS-11 which is published in its entirety below.

DATES: 5 U.S.C. 552a (e)(11) requires that the public be provided a 30-day period in which to comment on an agency's intended use of the information in the system of records. The Office of Management and Budget in its Circular A-130, requires an additional 10-day period in which to make these comments. Comments received within the 40 days from the publication in the Federal Register will be considered. The system will be effective as proposed at the end of the comment period unless comments are received which would require a contrary determination. The Department will publish a revised notice if changes are made based upon a review of comments received. Any person interested in commenting on this proposed amendment may do so by submitting comments in writing to Mr. Johnny R. Hunt, Privacy Act Officer, U.S. Fish and Wildlife Service, Department of the Interior, Mail Stop 222, Arlington square Building, 4401 North Fairfax Drive, Arlington, Virginia 22203, or by e-mail to Johnny_Hunt@fws.gov.

FOR FURTHER INFORMATION CONTACT: Mr. Johnny R. Hunt, Privacy Act Officer, U.S. Fish and Wildlife Service, telephone: (703) 358-1730, or fax: (703) 358-2269.

SUPPLEMENTARY INFORMATION: The Refuge Revenue Sharing Act of October 17, 1978, Public Law 95-469, amended the Act of June 15, 1935 [amended by the Act of August 30, 1964 (78 Stat. 701; 16 U.S.C.715s)] authorizes the Department of Interior to deposit into the United States Treasury revenues received by the Secretary of Interior from such activities as the “sale or other disposition of animals, salmonoid carcasses, timber, hay, grass, or other products of the soil, minerals, shells, sand, or gravel, from other privileges, or from leases for public accommodations or facilities * * *” The Department applies such revenues toward the maintenance of the National Wildlife Refuge system.

Monies from the Migratory Bird Conservation Fund and other Congressional Appropriation provide for such activities as land appraisals, surveys, and payments for acquisition of real property interests. The FWS established a subcomponent of the Real Property Records system called the Land Acquisition Network Database System (LANDS) to reconcile end-of-year transaction reports required by the Internal Revenue Service (IRS) for payments made to landowners who are selling an interest to FWS. The system will also allow the program to more quickly obtain land transaction status related to individual property parcels. Because the system will retrieve personal information such as name, address, social security number, land ownership status, and records of payment that must be reported as income to the IRS, it is subject to the Privacy Act of 1974 (5 U.S.C. 552a).

Johnny R. Hunt,
Privacy Act Officer, U.S. Fish & Wildlife Service.

INTERIOR/FWS-11

System name:

Real Property Records—Interior, FWS-11

Security classification:

None

System location:

We maintain records at (1) the Division of Realty, U.S. Fish and Wildlife Service, Arlington Square Building, 4401 North Fairfax Drive, Arlington, Virginia 22203 (2) all regional and field offices of the Ecological Services program. The records are stored on the server of the Branch of Communication Technology, U.S. Fish and Wildlife Service, Division of Realty, 755 Parfet Street, Suite 349, Lakewood, CO 80228.

Categories of individuals covered by the system:

The records are on landowners, tenants and permitees from whom the U.S. Fish and Wildlife Service has acquired land, water or interests therein (including options to buy property or an interest in property). Specifically, records may be on private landowners who have (1) signed an option for selling property or an interest in their property to the Fish and Wildlife Service or (2) have requested an evaluation of their property value related to that option.

Categories of records in the system:

The system contains:

(1) The title file (contains title evidence, the instrument of conveyance, the acquisition contract, title curative and closing data, title opinions, the survey description and plat, payment vouchers and the appraisal summary);

(2) The case file (contains the acquisition contract, the instrument of conveyance, closing data, the survey description and plat, payment vouchers, and the appraisal summary);

(3) The correspondence file (contains all general correspondence associated with the acquisition, the negotiator's contacts, and all material used for relocation assistance permits or outgrants);

(4) The appraisal report (contains the property description, local market data, comparable sales information, location maps, and an analysis of property value); and

(5) The option file (contains landowner's names, social security or employee identification numbers, home addresses, property acreages, bureau-assigned tract numbers, legal descriptions of lands, limitations of any easements, status of appraisal requests and/or offers to landowners, and money obligated and spent to acquire the property).

Authority for maintenance of the system:

Federal Property and Administrative Services Act of 1949 (63 Stat. 377); Migratory Bird Conservation Act of February 18, 1929 (45 Stat. 1222); Migratory Bird Hunting Stamp Act, as amended (16 U.S.C. 718 et seq.); Fish and Wildlife Act of 1956, as amended (16 U.S.C. 742a et seq.); Fish and Wildlife Coordination Act, as amended (16 U.S.C. 661-666c); Recreational Use of Conservation Areas Act, as amended (16 U.S.C. 460k-460k4); Colorado River Storage Project Act, as amended 943 U.S.C. 602g); Endangered Species Act of 1973 (16 U.S.C. 1531-1543); National Wildlife Refuge System Administration Act as amended (16 U.S.C. 668dd-668ee); Uniform Relocation Assistance and Real Property Acquisition Policies Act of 1970 (40 U.S.C. 4601 et seq.); Refuge Revenue Sharing Act of October 17, 1978, Public L. 95-469, amended the Act of June 15, 1935 [amended by the Act of August 30, 1964 (78 Stat. 701; 16 U.S.C. 715s)].

Routine use of records maintained in the system, including categories of users and the purposes of such uses:

The FWS is the primary user of the system, and the primary uses of the records are to:

(1) Obtain title evidence for closing from title companies or abstractors;

(2) Obtain title opinions and judgments on condemnation from our Solicitor's Offices and the Department of Justice;

(3) Use in negotiations regarding property appraisal;

(4) Obtain relocation assistance permits or outgrants;

(5) Report excess lands to the General Services Administration for transfer or disposal;

(6) Produce required agency annual reports which are stripped of personal identifiers;

(7) Reconcile end-of-year financial transaction reports required by the IRS and the FWS related to the land acquisition activities;

(8) Reconcile and track payments made to private landowners who are selling land or a land interest to the FWS;

(9) Monitor and update the status of land transaction activities with private landowners;

(10) Maintain a listing of counties that are eligible and that will receive revenue sharing payments as a result of the bureaus' land acquisition activities and also as a result of appraisal of those properties in accordance with the Refuge Revenue Sharing Act of October 17, 1978, Public Law 95-469;

(11) Report taxable income as required by the Internal Revenue Service.

Disclosure to any of the following entities outside the DOI may be made under any of the routine uses listed below without the consent of the individual if the disclosure is compatible with the purpose for which the records were collected:

(1) To another Federal agency to enable that agency to respond to an inquiry by the individual to whom the record pertains;

(2) To Federal, State, and local authorities as needed to conduct inquiries related to land acquisition activities carried out under any of the previously stated authorities;

(3) To the Department of Justice (DOJ), or to a court or adjudicative or other administrative body, or to a party in litigation before a court or adjudicative or administrative body when:

(a) One of the following is a party to the proceeding or has an interest in the proceeding:

(i) The DOI or any component of the DOI;

(ii) Any employee acting in his or her official capacity;

(iii) Any DOI employee acting in his or her individual capacity where the DOI or DOJ has agreed to represent the employee; or

(iv) The United States, when DOI determines that DOI is likely to be affected by the proceeding; and

(b) The DOI deems the disclosure to be:

(i) Relevant and necessary to the proceedings and

(ii) compatible with the purpose for which DOI compiled the information.

(4) To an appropriate Federal, State, tribal, local or foreign governmental agency that is responsible for investigating, prosecuting, enforcing or implementing a statute, rule, regulation, order or license when we become aware of an indication of a violation or potential violation of the statute, rule regulation, order or license.

(5) To Federal, State, and local authorities as needed to conduct inquiries related to land acquisition activities carried out under the Refuge Revenue Sharing Act of October 17, 1978, Public Law 95-469.

(6) To a congressional office in response to a written inquiry to that office by the individual to whom the record pertains.

(7) To a contractor, expert, or consultant employed by the FWS—only when necessary to accomplish a function related to this system of records.

(8) To the IRS as part of the IRS-required year-end financial reports to produce the 1099 notice to the landowner as taxable income.

Disclosure to consumer reporting agencies:

Pursuant to 5 U.S.C. 552a(b)12, disclosures may be made from this system to consumer reporting agencies as they are defined in the Fair Credit Reporting Act (15 U.S.C. 1681a(f)) or the Federal Claims Collection Act of 1966 (931 U.S.C. 3701(A)(3)).

Policies and practices for storing, retrieving, accessing, retaining, and disposing of records in the system:

Storage:

We maintain records both in paper and electronic files. Electronic records are stored in a computer system on a secure server. Hardcopy input records associated with reconciliation of bureau financial reports or records required to report taxable income are temporarily secured in a locked file that bears a Privacy Act warning label.

Retrievability:

Generally we store the records by individual name, project name, project number and location. Electronic records may be searched on or reported by any data field. Retrieval is generally dependent upon the report or purpose of usage and whether a need to know exists. For example, records may be retrieved by social security number, name, tract number, State, or county. Records are retrievable for several purposes, such as determining landowner payments that need to be reported to IRS, tracking payments made to landowners, reconciliation of the bureau's financial reports, and tracking status of acquisition activities or requests for surveys and appraisals related to those activities.

Safeguards:

We maintain the records in accordance with safeguards specified in the Department of the Interior Privacy Act regulations (43 CFR 2.51). Safeguards include password-protected computers and on site locked storage rooms. Electronic records have a multi-level password-protected database. The file server uses active directory for logon. The application uses secure socket layer (SSL) through port 443 so that HTTP traffic is encrypted with 128-bit encryption for external protection. Therefore, data is secure between the client and the Branch of Communication Technology's Server. The tax identification number, Social Security Number and Employee Identification Number are encrypted using base 64 encryption algorithms and converted to HEX. Electronic records are password-protected, backed up daily, and maintained with safeguards meeting the security requirements of 43 CFR 2.51. A Privacy Impact Assessment was completed to ensure that Privacy Act requirements and safeguard requirements are met.

Retention and disposal:

Records are maintained in accordance with U.S. Fish and Wildlife Service Records Schedule and the General Records Schedule (GRS-7).

System manager(s) and address:

Chief, Division of Realty, U.S. Fish and Wildlife Service, Mail Stop 622, Arlington Square Building, 4401 North Fairfax Drive, Arlington, Virginia 22203 and (2) U.S. Fish and Wildlife Service Regional Offices (See 50 CFR 2.2 for addresses).

Notification procedures:

Any individual may request notification of the existence of records on him or herself may do so by writing to the system manager at the address above. The request must be in writing, be signed by the requester, and include the requester's full name, address, and Social Security Number (see 43 CFR 2.60).

Records access procedures:

See “Notification procedures” above and 43 CFR 2.63(b)(4)).

Contesting record procedures:

See “Notification procedures” above and 43 CFR 2.71).

Records Source Categories:

Records come from landowners who have signed an option for selling land or interests in lands to the Fish and Wildlife Service.

Exemptions claimed for the system:

None.

[FR Doc. E6-20033 Filed 11-24-06; 8:45 am]

BILLING CODE 4310-55-P